INTERNATIONAL TRADE COMMISSION

[Investigation No. 337-TA-834]

Certain Mobile Electronic Devices Incorporating Haptics; Termination of Investigation

AGENCY: U.S. International Trade Commission.

ACTION: Notice.

SUMMARY: Notice is hereby given that the U.S. International Trade Commission has determined not to review the presiding administrative law judge's (“ALJ”) initial determination (“ID”) (Order No. 35) terminating the investigation on the basis of withdrawal of the complaint.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 6, 2012, based on a complaint filed by Immersion Corporation of San Jose, California (“Immersion”). The complaint alleged violations of section 337 of the Tariff Act of 1930, 19 U.S.C. 1337, in the importation, sale for importation, and sale within the United States after importation of certain mobile electronic devices incorporating haptics that infringe certain claims of six Immersion patents. 77 FR 20847 (Apr. 6, 2012). The notice of institution named as respondents HTC Corporation of Taoyuan, Taiwan and HTC America, Inc. of Bellevue, Washington (collectively, “HTC”); and Motorola Mobility, Inc. and Motorola Mobility Holdings, Inc., both of Libertyville, Illinois (collectively, “Motorola”). On February 13, 2013, the Commission determined not to review the ALJ's ID (Order No. 30) terminating the investigation as to the Motorola respondents on the basis of a settlement agreement.

On March 12, 2013, Immersion moved to terminate the investigation on the basis of withdrawal of the complaint. See 19 CFR 210.21(a)(1). On March 14, 2013, HTC responded, agreeing that the investigation should be terminated.

On March 27, 2013, the ALJ granted the motion as an ID. Order No. 35. The ALJ found that Immersion complied with the requirements of 19 CFR 210.21(a), and that “extraordinary circumstances” did not prevent termination of the investigation. Order No. 35 at 2 (citing Certain Ultrafiltration Membrane Systems, and Components Thereof, Including Ultrafiltration Membranes, Inv. No. 337-TA-107, Comm'n Action and Order, at 2 (Mar. 11, 1982)).

No petitions for review of the ID were filed. The Commission has determined not to review the ID.

The authority for the Commission's determination is contained in section 337 of the Tariff Act of 1930, as amended (19 U.S.C. 1337), and in sections 210.21 and 210.42 of the Commission's Rules of Practice and Procedure (19 CFR 210.21, 210.42).

Issued: April 15, 2013.
By order of the Commission.
Lisa R. Barton,
Acting Secretary to the Commission.

[FR Doc. 2013-09179 Filed 4-18-13; 8:45 am]

BILLING CODE 7020-02-P